DEPARTMENT OF THE INTERIOR

Bureau of Indian Affairs

Submission of Information Collection Under the Paperwork Reduction Act; Reinstatement [The No Child Left Behind Act]

AGENCY: Bureau of Indian Education, Interior.

ACTION: Notice.

SUMMARY: The Bureau of Indian Education (BIE), in accordance with the Paperwork Reduction Act, is seeking reinstatement of the No Child Left Behind Act Regulation, 25 CFR parts 30, 37, 39, 42, 44 and 47, OMB Control Number 1076-0163. During the renewal process the information collection expired.

DATES: Written comments must be submitted on or before November 2, 2007.

ADDRESSES: You may submit comments on the information collection to the Desk Officer for the Department of the Interior at the Office of Management and Budget, by facsimile to (202) 395-6566 or you may send an e-mail to OIRA_DOCKET@omb.eop.gov. Please send copies of comments to the Bureau of Indian Education (BIE), 1849 C Street, NW., Mail Stop 3609-MIB, Washington, DC 20240.

FOR FURTHER INFORMATION CONTACT: Dr. James Martin (202) 208-6123.

SUPPLEMENTARY INFORMATION:

I. Abstract

Public Law 107-110, the No Child Left Behind (NCLB) Act of January 8, 2001, requires all schools, including Bureau of Indian Education funded schools, to ensure that all children have a fair, equal, and significant opportunity to obtain a high-quality education and reach, at a minimum, proficiency on challenging academic achievement standards and assessments. The BIE is required to monitor programs, gather data, and complete reports for the U.S. Department of Education. To achieve these results, schools must prepare required reports such as the Annual Report, the School Report Card, Section 1114 Plans, financial budgets, school improvement plans, compliance action plans as a result of monitoring, Title II, Part A reports on highly qualified staff, Title IV, Part A, Safe and Drug Free Schools and Communities reports; competitive sub-grant reports, Indian School Equalization Programs (ISEP) reports, the Native American Student Information System (NASIS) reports, and transportation reports are all examples of documentation to be completed.

II. Request for Comments

A 60-day notice requesting comments was published on May 7, 2007 (Vol. 72, FR 25774). There were no comments received regarding that notice. You are invited to comment on the following items to the Desk Officer at OMB at the citation in ADDRESSES section.

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected;

(d) Ways to minimize the burden of the collection of information on those who are to respond, including through the use of appropriate automated, electronic, mechanical, or other collection techniques or forms of information technology.

Comments submitted in response to this notice will be summarized and become a matter of public record.

OMB has up to 60-days to make a decision, but may decide after 30-days; therefore your comments will receive maximum consideration if received during the 30-day period.

We will not request nor sponsor a collection of information, and you need not respond to such a request, if there is no valid Office of Management and Budget Control Number.

III. Data

Title: No Child Left Behind Regulations, 25 CFR parts 30, 37, 39, 42, 44, and 47.

OMB Control Number: 1076-0163.

Type of review: Reinstatement.

Brief Description of Collection: This collection is mandatory according to statutory regulations, and the benefit to the respondents is continued supplementary Title programs funding.

Respondents: Bureau-funded schools, tribal governing bodies, and school boards are the respondents, and submission is mandatory.

Number of Respondents: 184 Bureau-funded schools.

Estimated Time per Response: The range of time can vary from 1 hour to an average of 48 hours for one item.

Frequency of Response: Annually and sometimes quarterly.

Total Annual Hourly Burden to Respondents: 1332 (number of responses) × 9.02 (average hourly burden per response) = 12018 total annual hours of burden.

Dated: September 25, 2007.
Carl J. Artman,
Assistant Secretary—Indian Affairs.

[FR Doc. E7-19453 Filed 10-2-07; 8:45 am]

BILLING CODE 4310-XN-P